DEPARTMENT OF THE INTERIOR

Bureau of Land Management

[LLNVC00000.L16100000.DP0000 LXSS155F0000; 14-08807; MO# 4500065255]

Notice of Availability of the Carson City District Draft Resource Management Plan and Draft Environmental Impact Statement, NV

AGENCY: Bureau of Land Management, Interior.

ACTION: Notice.

SUMMARY: In accordance with the National Environmental Policy Act of 1969, as amended, and the Federal Land Policy and Management Act of 1976, as amended, the Bureau of Land Management (BLM) has prepared the Carson City District Draft Resource Management Plan (RMP) and Draft Environmental Impact Statement (EIS) for the Carson City District Office, Sierra Front and Stillwater Field Offices, and by this notice is announcing the opening of the comment period.

DATES: To ensure that comments will be considered, the BLM must receive written comments on the Carson City District Draft RMP and Draft EIS within 120 days following the date the Environmental Protection Agency publishes this notice of the Draft RMP/Draft EIS in the Federal Register.

ADDRESSES: You may submit comments related to the Carson City District Draft RMP/Draft EIS by any of the following methods:

• Web site: http://www.blm.gov/nv/st/en/fo/carson_city_field.html.

• Email: BLM_NV_CCDO_RMP@blm.gov.

• Fax: 775-885-6147.

• Mail: BLM Carson City District, Attn: CCD RMP, 5665 Morgan Mill Rd., Carson City, NV 89701.

Copies of the Carson City District Draft RMP/Draft EIS are available in the Carson City District Office at the above address or on the following Web site: http://www.blm.gov/nv/st/en/fo/carson_city_field.html.

FOR FURTHER INFORMATION CONTACT: Colleen Sievers, RMP Project Manager, telephone: 775-885-6168; address: 5665 Morgan Mill Rd., Carson City, NV 89701; email: BLM_NV_CCDO_RMP@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The Carson City District Draft RMP/Draft EIS would replace the existing 2001 Carson City Field Office Consolidated RMP. The Draft RMP/Draft EIS was developed through a collaborative planning process. The Carson City District Draft RMP decision area encompasses approximately 4.8 million acres of public land administered by the BLM Carson City District in portions of 11 counties within 2 States (Washoe, Storey, Carson City, Douglas, Lyon, Churchill, Mineral, and Nye counties in Nevada; and Alpine, Plumas, and Lassen counties in California). It does not include private lands, State lands, Indian reservations, or Federal lands not administered by BLM.

The Carson City District Draft RMP/Draft EIS includes goals, objectives and management actions for protecting and preserving natural resources which includes air quality, soil and water resources, vegetation, fish and wildlife, special status species, wild horses and burros, wildland fire management, cultural and paleontological resources, and visual resource values. Multiple resource uses are addressed which include management and forage allocations for livestock grazing; delineation of lands open, closed, or subject to special stipulations or mitigation measures for minerals development; recreation and travel management designations; management of lands and realty actions, including delineation of avoidance and exclusion areas applicable to rights-of-ways, land tenure adjustments, and solar and wind energy development. Eligible river segments will be identified for suitability designation as components of the National Wild and Scenic River System and 24 Areas of Critical Environmental Concern (ACECs) are proposed. The ACECs are proposed to protect biological, botanical, historic, cultural, paleontological and scenic values.

The Draft RMP/Draft EIS analyzes five management alternatives. Alternative A is the No Action Alternative, which is the continuation of current management under the existing 2001 Consolidated RMP and subsequent amendments. This alternative describes the current goals and actions for management of resources and land uses in the planning area. The management direction could also be modified by current laws, regulations, and policies. Alternative B emphasizes opportunities to use and develop resources within the planning area. It would provide for motorized access and commodity production with minimal restrictions while providing protection of natural and cultural resources to the extent required by law, regulation, and policy. This alternative would largely rely on existing laws, regulations, and policies, rather than special management or special designations, to protect sensitive resources. Alternative C emphasizes the protection of the planning area's resource values while allowing commodity uses as consistent with current laws, regulations, and policies. Management actions would emphasize resource values such as habitat for wildlife and plant species (including special status species), protection of riparian areas and water quality, preservation of ecologically important areas, maintenance of wilderness characteristics, and protection of scientifically important cultural and paleontological sites. Access to and development of resources within the planning area could occur with intensive management and mitigation of surface-disturbing and disruptive activities. Alternative D emphasizes the increased demand on BLM-administered lands within the urban interface area. The interface is a set of conditions that affect resources and how they can be managed, rather than a geographic place. Enhanced community development through a change in land tenure is reflected in this alternative. Alternative D provides for increased management of recreational opportunities in areas of high use while reducing conflict between use of the BLM-administered land and adjacent private landowners. Specific measures would also be applied to manage for increased pressures on the land and a higher demand from the public while minimizing adverse effects on local communities. Alternative E emphasizes a balance between resource protection and resource use, which provides opportunities to use and develop resources within the planning area while ensuring resource protection. The BLM Carson City District's preferred alternative is Alternative E.

Pursuant to 43 CFR 1610.7-2(b), this notice announces a concurrent public comment period for potential ACECs. There are 4 existing and 9 new ACECs proposed in Alternative B, 5 existing and 18 new ACECs proposed in Alternative C, 3 existing and 8 new ACECs proposed in Alternative D, and 4 existing and 4 new ACECs in Alternative E. The ACECs are proposed to protect biological, botanical, historic, cultural, paleontological and scenic values. Alternatives B, D, and E all propose to remove the ACEC designation from the current Carson Wandering Skipper ACEC (330 acres). Alternative D proposes to remove the ACEC designation from the Stewart Valley Paleontological ACEC (15,900 acres). Additionally, Alternatives B, C, D, and E propose to remove the ACEC designation from the Steamboat Hot Springs Geyer Basin ACEC (40 acres). One existing ACEC is proposed to be expanded under Alternatives B, C, D and E.

The new potential ACECs in Alternative B include: Black Mountain/Pistone Archaeological District (3,400 acres), Churchill Narrows Buckwheat Botanical (6,600 acres), Fox Peak Cultural (48,400 acres), Greater Sand Mountain (17,000 acres), Grimes Point Archaeological District (15,900 acres), Namazii Wunu Cultural (158,300 acres), Ruhenstroth Paleontological (2,300 acres), Tagim asa Cultural (81,800 acres), and the Virginia City National Landmark Historic District (14,700 acres). Alternative B would retain the existing Incandescent Rocks Scenic (1,100 acres), Stewart Valley Paleontological (15,900 acres), and the Virginia Range Williams Combleaf Botanical (470 acres) ACECs and would expand the Pah Rah High Basin Petroglyph ACEC (5,300 acres).

The new potential ACECs in Alternative C include: Black Mountain/Pistone Archaeological District (3,400 acres), Churchill Narrows Buckwheat Botanical (6,600 acres), Clan Alpine Greater Sage-Grouse (98,400 acres), Desatoya Greater Sage-Grouse (105,100 acres), Dixie Valley Toad (410 acres), Fox Peak Cultural (48,400 acres), Greater Sand Mountain (17,000 acres), Grimes Point Archaeological District (15,900 acres), Lassen Red Rock Scenic (800 acres), Namazii Wunu Cultural (158,300 acres), Pine Nut Bi-State Sage-Grouse (100,400 acres), Pine Nut Mountains Williams Combleaf Botanical (330 acres), Ruhenstroth Paleontological (2,300 acres), Sand Springs Desert Study Area (50 acres), Steamboat Buckwheat Botanical (80 acres), Tagim asa Cultural (81,800 acres), Virginia City National Landmark Historic District (14,700 acres) and the Virginia Mountains Greater Sage-Grouse (109,200 acres). Alternative C would retain the existing Carson Wandering Skipper (330 acres), Incandescent Rocks Scenic (1,100 acres), Stewart Valley Paleontological (15,900 acres), and the Virginia Range Williams Combleaf Botanical (470 acres) ACECs and would expand the Pah Rah High Basin Petroglyph ACEC (5,300 acres).

The new potential ACECs in Alternative D include: Black Mountain/Pistone Archaeological District (3,400 acres), Churchill Narrows Buckwheat Botanical (6,600 acres), Fox Peak Cultural (48,400 acres), Grimes Point Archaeological District (15,900 acres), Pine Nut Mountains Williams Combleaf Botanical (330 acres), Ruhenstroth Paleontological (2,300 acres), Tagim asa Cultural (81,800 acres), and the Virginia City National Landmark Historic District (14,700 acres). Alternative D would retain the existing Incandescent Rocks Scenic (1,100 acres) and the Virginia Range Williams Combleaf Botanical (470 acres) ACECs and would expand the Pah Rah High Basin Petroglyph ACEC (5,300 acres).

The new potential ACECs in Alternative E include: Churchill Narrows Buckwheat Botanical (6,600 acres), Fox Peak Cultural (48,400 acres), Grimes Point Archaeological District (15,900 acres), and the Ruhenstroth Paleontological (2,300 acres). Alternative E would retain the existing Incandescent Rocks Scenic (1,100 acres), Stewart Valley Paleontological (15,900 acres), and the Virginia Range Williams Combleaf Botanical (470 acres) ACECs and would expand the Pah Rah High Basin Petroglyph ACEC (5,300 acres).

The following management prescriptions could apply to potential ACECs, if formally designated, depending on each individual ACEC: avoid or exclude linear ROWs; avoid or exclude site-type ROWs; close to or place use constraints on fluid leasable mineral development; close to solid leasable mineral development; recommend withdrawal of locatable mineral development; close to saleable mineral development; not available for livestock grazing; manage as VRM Class II; Special Recreation Permits would not be issued; close to camping; closed or limited to designated routes for motorized travel; place seasonal restrictions of ground disturbing actions; prohibit the collection of vegetation; and seasonally closed for Native American cultural/religious use.

Public meetings on the Draft RMP/Draft EIS are currently scheduled for 5:00 to 7:00 p.m.; on January 13, at the John Ascuaga's Nugget (1100 Nugget Ave.) in Sparks, Nevada; on January 15, at the Fallon Convention Center (100 Campus Way) in Fallon, Nevada; on January 20, at the Mineral County Library (First & A Street) in Hawthorne, Nevada; on January 22, at the Carson Valley Inn (1627 US Hwy 395 N) in Minden, Nevada; and on January 29, at the Yerington Elementary School (112 N. California St.) in Yerington, Nevada. An additional public meeting will be held from 2:00 to 4:00 p.m., on January 24, at the Carson City Plaza Hotel and Event Center (801 South Carson Street) in Carson City, Nevada. Additional public meetings are anticipated in coordination with local County Commissions and Boards of Supervisors. Any such additional meetings will be announced at least 15 days in advance through public notices, media releases, and/or mailings.

Please note that public comments and information submitted including names, street addresses, and email addresses of persons who submit comments will be available for public review and disclosure at the above address during regular business hours (8 a.m. to 4 p.m.), Monday through Friday, except holidays.

Before including your address, phone number, email address, or other personal identifying information in your comment, you should be aware that your entire comment—including your personal identifying information—may be made publicly available at any time. While you can ask us in your comment to withhold your personal identifying information from public review, we cannot guarantee that we will be able to do so.

Authority: 40 CFR 1506.6, 40 CFR 1506.10, 43 CFR 1610.2

Marci Todd,
Associate State Director, Nevada.

[FR Doc. 2014-28004 Filed 11-26-14; 8:45 am]

BILLING CODE 4310-HC-P